MILLENNIUM CHALLENGE CORPORATION

[MCC FR 09-08]

Notice of the March 11, 2009 Millennium Challenge Corporation Board of Directors Meeting; Sunshine Act Meeting

AGENCY: Millennium Challenge Corporation.

TIME AND DATE: 10 a.m. to 12 p.m., Wednesday, March 11, 2009.

PLACE: Department of State, 2201 C Street, NW., Washington, DC 20520.

FOR FURTHER INFORMATION CONTACT: Information on the meeting may be obtained from Romell Cummings via e-mail at Board@mcc.gov or by telephone at (202) 521-3600.

STATUS: Meeting will be closed to the public.

MATTERS TO BE CONSIDERED: The Board of Directors (the “Board”) of the Millennium Challenge Corporation (“MCC”) will hold a meeting to consider the selection of countries that will be eligible for FY 2009 Millennium Challenge Account (“MCA”) assistance under Section 607 of the Millennium Challenge Act of 2003 (the “Act”), codified at 22 U.S.C. 7706, and Threshold Program assistance under Section 616 of the Act (22 U.S.C. 7715); discuss progress on proposed Compacts with certain MCA-eligible countries; discuss MCC's proposed policy on suspension, remediation, and termination of assistance and eligibility; and certain administrative matters. The agenda items are expected to involve the consideration of classified information and the meeting will be closed to the public.

Henry C. Pitney,
(Acting) Vice President and General Counsel, Millennium Challenge Corporation.

[FR Doc. E9-4252 Filed 2-24-09; 4:15 pm]

BILLING CODE 9211-03-P